DEPARTMENT OF AGRICULTURE

Forest Service

Information Collection; Workforce Development Participant Tracking

AGENCY: Forest Service, Agriculture (USDA).

ACTION: Notice; request for comment.

SUMMARY: In accordance with the Paperwork Reduction Act of 1995, the Forest Service (Agency) is seeking comments from all interested individuals and organizations on the renewal of a currently approved information collection request 0596-0247, titled Workforce Development Participant Tracking. This renewal will also provide a common form for use by other Federal agencies.

DATES: Comments must be received in writing on or before October 17, 2025 to be assured of consideration.

ADDRESSES: Comments concerning this notice may be sent to Amy Firestone, Assistant Director (Acting)—Workforce Development Partnerships, USDA Forest Service, 201 14th Street SW, 2CE, Washington, DC 20250. Comments also may be submitted by email to SM.FS.wdp@usda.gov.

Comments submitted in response to this notice will be available to the public through relevant websites and upon request. For this reason, please do not include in your comments information of a confidential nature, such as sensitive personal information or proprietary information. If you send an email comment, your email address will be automatically captured and included as part of the comment that is placed in the public docket and made available for public viewing. Please note that comments containing any routine notice about the confidentiality of the communication will be treated as public comments that may be made available to the public notwithstanding the inclusion of the routine notice.

The supporting documents for the information collection request and/or any comments received are available for public inspection at the Office of the Director, National Partnership Office, 2nd Floor Central, Sidney R. Yates Federal Building, 201 14th Street SW, Washington, DC, on business days between 8:30 a.m. and 4:00 p.m. Visitors are encouraged to call ahead to (800) 832-1355 to facilitate entry to the building. The public may request that an electronic copy of the supporting documents for the information collection and/or any comments received be sent via return email. Requests should be emailed to SM.FS.wdp@usda.gov. The information collection request is posted online at https://www.regulations.gov/.

FOR FURTHER INFORMATION CONTACT: Amy Firestone, Assistant Director (Acting)—Workforce Development Partnerships, by phone at (202) 317-2807 or by email at SM.FS.wdp@usda.gov. Individuals who are deaf, hard of hearing, or have a speech disability may call 711 to reach the Telecommunications Relay Service then provide the phone number of the person named as a point of contact for further information.

SUPPLEMENTARY INFORMATION:

Title: Workforce Development Participant Tracking.

OMB Number: 0596-0247.

Expiration Date of Approval: June 30, 2026.

Type of Review: Extension with non-substantive changes of a currently approved information collection, with a new request for common form.

Abstract: Federal land management and other agencies are authorized to offer work and education programs for individuals in natural and cultural resources careers. Some of the applicable statutes and regulations include special hiring authorities, upon completion of certain requirements. This information collection request will enable participating agencies to capture required and other information that will aid in workforce development and job training for young people, returning veterans, and others who are unemployed or underemployed, and to monitor compliance with statutory laws and associated hiring authorities. A primary, but not exclusionary, authorizing source for the information collection is 16 U.S.C. 1702-1727, chapter 37—Youth Conservation Corps, Public Lands Corps, Resource Assistants Program, and Indian Youth Service Corps. The Public Lands Corps is a work and education program involving the Nation's land management agencies, conservation and service corps, and environmental organizations that contribute to the rehabilitation, restoration, and repair of public land resources and infrastructures. Public Lands Corps projects provide opportunities for community and national public service, work experience and training for young people who are unemployed or underemployed, students, recent graduates, and others with an interest in natural and cultural resources careers.

The Workforce Development Participant Tracking form supports effective management of the Public Lands Corps and other workforce development programs hosted in partnership with public land management agencies. Utilization of a common form will contribute to the following: assist Federal agencies to uniformly collect information regarding work accomplished; track and monitor participant engagement to determine the completion of requirements for noncompetitive hiring eligibility as defined in the Public Lands Corps Act; comply with statutory reporting requirements; inform effective outreach; and provide data about project activities that can be aggregated across Federal agencies.

Information collected, such as participant demographic information and project information, will allow the Forest Service, National Park Service, Bureau of Land Management, Fish and Wildlife Service, and other agencies to monitor the effectiveness of Federal efforts to meet the intent of the authorizing statutes. This information collection request will ensure that partners maintain a record of all workforce development agreements, grants and contracts established, participant demographics and education, project information and work hours, project locations and dates, and status of special hiring eligibilities conferred upon eligible participants.

Affected Public: Non-Profit Organizations and non-Federal Government entities.

Estimated Annual Burden per Response: 2 hours.

Estimated Annual Number of Respondents: 500.

Estimated Annual Number of Responses per Respondent: 1; annually. The application will be available for respondents to input data more frequently if they choose.

Estimated Total Annual Burden on Respondents: 1,000 hours.

Comment is Invited: Comment is invited on (1) whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request for Office of Management and Budget approval.

Beattra Wilson,
Associate Deputy Chief State, Private, and Tribal Forestry, National Forest System.

[FR Doc. 2025-15637 Filed 8-15-25; 8:45 am]

BILLING CODE 3411-15-P